POSTAL SERVICE

Sunshine Act Meeting

TIMES AND DATES: 9 a.m., Monday, October 2, 2000; 8:30 a.m., Tuesday, October 3, 2000.

PLACE: Previously Published.

STATUS: October 2 (Closed); October 3 (Open).

MATTERS TO BE CONSIDERED:

Addition to Agenda

Tuesday, October 3—8:30 a.m. (Open)

Fiscal Year 2001 Annual Performance Plan

CONTACT PERSON FOR MORE INFORMATION: David G. Hunter, Secretary of the Board, U.S. Postal Service, 475 L'Enfant Plaza, SW., Washington, DC 20260-1000. Telephone (202) 268-4800.

David G. Hunter,
Secretary.

TENTATIVE AGENDA

Monday Session

October 2—9 a.m. (Closed)—San Diego Marriott in Marina Ballroom D

1. Financial Performance. (Mr. Richard Strasser)

2. Fiscal Year 2001 Integrated Financial Plan. (Mr. Richard Strasser)

3. Establish/Deploy Process. (Mr. Patrick Donahoe)

4. Fiscal Year 2001 EVA Variable Pay Program. (Ms. Yvonne Maguire)

5. Overview of the Sales Organization. (Ms. Gail Sonnenberg)

6. Briefing on Advertising. (Mr. Allen Kane)

7. EEO Settlement Authority. (Ms. Mary Anne Gibbons)

8. Personnel Matters.

9. Compensation Issues.

Tuesday Session

October 3—8:30 a.m. (Open)—San Diego Marriott in Marina Ballroom D

1. Minutes of the Previous Meeting, August 28-29, 2000.

2. Remarks of the Postmaster General and CEO. (Mr. William Henderson)

3. Fiscal Year 2001 Annual Performance Plan. (Chairman Dyhrkopp)

4. Board of Governors Calendar Year 2001 Meeting Schedule. (Chairman Dyhrkopp)

5. Office of the Governors FY 2001 Budget. (Chairman Dyhrkopp)

6. Preliminary FY 2002 Appropriation Request. (Mr. Richard Strasser)

7. Capital Investments.

a. Champaign, Illinois, Processing and Distribution Facility Expansion. (Mr. Danny Jackson)

b. Stamford, Connecticut—New Springdale Station Additional Funding. (Ms. Diane Van Loozen)

8. Report on the San Diego District.

9. Tentative Agenda for the November 13-14, 2000, meeting in Washington, DC.

[FR Doc. 00-24912 Filed 9-25-00; 2:12 pm]

BILLING CODE 7710-12-M